DEPARTMENT OF COMMERCE

National Institute of Standards and Technology

[Docket No. 020328074-2074-01]

RIN 0693-ZA48

Announcement of Availability of Funds for a Competition and Announcement of a Public Meeting—Advanced Technology Program (ATP)

AGENCY: National Institute of Standards and Technology, Technology Administration, Commerce.

ACTION: Notice.

SUMMARY: The Technology Administration's National Institute of Standards and Technology (NIST) announces that it will hold a single fiscal year 2002 Advanced Technology Program (ATP) competition and announces a public meeting (Proposers' Conference) for all interested parties. This single competition will continue ATP's practice of being open to all technology areas. All fiscal year 2002 proposals received may be distributed to technology-specific source evaluation boards in areas such as advanced materials, biotechnology, electronics, information technology, etc. This notice provides general information regarding ATP competitions.

DATES: ATP will begin accepting proposals on April 22, 2002. The ATP has established the following three due dates for submission of proposals: Monday, June 10, 2002; Wednesday, July 31, 2002; and Monday, September 30, 2002. All hand-delivered or electronically submitted proposals must be received by 3 p.m. Eastern Time on the specified dates; all other proposals must be postmarked by the due dates specified above and received no later than 3 p.m. Eastern Time Monday, June 24, 2002, Wednesday, August 14, 2002, or Tuesday, October 15, 2002, respectively. Proposals submitted through guaranteed overnight carriers are deemed to be postmarked on the date they are delivered to the carrier. To be considered for funding in fiscal year 2002, potential proposers must submit their proposals by the first due date of June 10, 2002. Proposals submitted after June 10, 2002, may not be considered for funding in fiscal year 2002, but rather for funding in fiscal year 2003, subject to the availability of funding.

ADDRESSES: Information on the ATP may be obtained from the following address: National Institute of Standards and Technology, Advanced Technology Program, 100 Bureau Drive, Stop 4701, Administration Building 101, Room A413, Gaithersburg, MD 20899-4701.

Additionally, information on the ATP is available on the Internet at http://www.atp.nist.gov.

FOR FURTHER INFORMATION CONTACT: Requests for ATP information, application materials, and/or to have your name added to the ATP mailing list for future mailings may also be made by:

(a) Calling the ATP toll-free “hotline” number at 1-800-ATP-FUND or 1-800-287-3863. You will have the option of hearing recorded messages regarding the status of the ATP or speaking to one of our customer representatives who will take your name and address. If you reach ATP voice mail, please speak distinctly and slowly and spell the words that might cause confusion. Leave your phone number as well as your name and address;

(b) Sending a facsimile (fax) to 301-926-9524 or 301-590-3053; or

(c) Sending an electronic form available at http//www.atp.nist.gov/atp/atpform.htm.

SUPPLEMENTARY INFORMATION:

Background

The ATP statute originated in the Omnibus Trade and Competitiveness Act of 1988 (Pub. L. 100-418, 15 U.S.C. 278n) and was amended by the American Technology Preeminence Act of 1991 (Pub. L. 102-245). This law has been codified at 15 U.S.C. 278n. The ATP implementing regulations are published at 15 CFR part 295, as amended. The Catalog of Federal Domestic Assistance (CFDA) number and program title for the ATP are 11.612, Advanced Technology Program (ATP).

The ATP is a competitive cost-sharing program designed for the Federal government to work in partnership with industry to accelerate the development and broad dissemination of challenging, high-risk technologies that offer the potential for significant commercial payoffs and widespread benefits for the nation. This unique government-industry partnership accelerates the development of emerging or enabling technologies leading to revolutionary new products, industrial processes and services that can compete in rapidly changing world markets. The ATP challenges industry to take on higher risk projects with commensurately higher potential payoff to the nation. The ATP provides multi-year funding to single companies and to industry-led joint ventures.

The funding instrument used in ATP awards is a “cooperative agreement.” Through the use of the cooperative agreement, the ATP is designed to foster a government-industry partnership to accomplish a public purpose of support or stimulation. NIST plays a substantial role by providing technical assistance and monitoring the technical work, business progress, and expenditure of Federal funds.

Funding Availability

Congressional Fiscal Year 2002 appropriations included funds not to exceed $60.7 million for new awards. Because ATP is now funding applications on a rolling basis, some portion of this may be used for new awards submitted pursuant to the procedures established for the FY 2001 competition and similarly a portion may be used for applications submitted under FY 2003 competition.

Eligibility Requirements, Selection Criteria, and Proposal Review Process

The eligibility requirements, selection criteria, and the proposal review process are discussed in detail in the ATP implementing regulations published at 15 CFR part 295, as amended, and the ATP Proposal Preparation Kit dated April 2002.

ATP will group all proposals received by each of the specified due dates and review them as a group called a “batch.” Since ATP has established three due dates for proposal submission in fiscal year 2002, there will be three batches. All hand-delivered or electronically submitted proposals must be received by 3 p.m. Eastern Standard Time on the specified dates below:

(a) Batch 1—Monday, June 10, 2002.

(b) Batch 2—Wednesday, July 31, 2002.

(c) Batch 3—Monday, September 30, 2002.

All other proposals must be postmarked by 3 p.m. Eastern Standard Time on the specified due dates and received by 3:00 p.m. Eastern Standard Time on the specified dates below:

(a) Batch 1—postmarked by Monday, June 10, 2002, and received by Monday, June 24, 2002.

(b) Batch 2—postmarked by Wednesday, July 31, 2002, and received by Wednesday, August 14, 2002.

(c) Batch 3—postmarked by Monday, September 30, 2002, and received by Tuesday, October 15, 2002.

Each batch will be reviewed under a multiple stage and sequential review process to reduce the amount of information required at one time. Each stage in the process is called a “gate.” There are four gates as follows:

(a) Gate 1—The proposer submits detailed information to address the scientific and technological merit selection criterion. Additionally, the proposer submits preliminary information to address the selection criterion on the potential for broad-based economic benefits. If the information submitted is determined to have high merit, ATP notifies the proposer and requests that the required additional information be submitted for consideration in Gate 2. If a proposal passes Gate 1, the proposer will have two weeks (14 calendar days) from written notification to submit the required information in Gate 2.

(b) Gate 2—The proposer submits more detailed information to address the potential for broad-based economic benefits selection criterion and detailed budget data. If the information submitted is determined to have high merit, ATP notifies the proposer of its selection as a semi-finalist and the proposal proceeds to Gate 3.

(c) Gate 3—The proposer is requested to submit required forms and additional documentation, as necessary, and may be invited to NIST for an oral review. If ATP determines, based on all the information received, that the proposal has sufficiently high merit to be funded, the proposal is considered a finalist and proceeds to Gate 4.

(d) Gate 4—Final award processing and issuance, if selected.

Additionally, the following requirements shall apply:

(a) Semi-finalist proposals will be ranked in the following three categories: “Superior,” “Fundable/Deferred,” or “Unfundable.” Fundable/Deferred proposals may be deferred for consideration in subsequent batches within the same competition.

(b) Proposers may not submit replacement and/or revised pages and/or documents for any portion of a proposal once that portion has been submitted unless specifically requested by NIST.

(c) Once a proposer has received notification that their proposal will not be funded, the proposer may revise that proposal for consideration one additional time and resubmit it no later than the end of this fiscal year 2002 competition date of September 30, 2002.

Funding Amounts, Award Period and Cost Sharing (Matching) Requirements

(a) A single company can receive up to $2 million in total for R&D activities for up to 3 years. ATP funds may only be used to pay for direct costs for single company recipients. Single company recipients are responsible for funding all of their overhead/indirect costs. Small and medium size companies applying as single company proposers are not required to provide cost-sharing of direct costs; however, they may pay a portion of the direct costs, if they wish, in addition to all indirect costs. Large companies applying as single company proposers, however, must cost-share at least 60 percent of the yearly total project costs (direct plus all of the indirect costs). A large company is defined as any business, including any parent company plus related subsidiaries, having annual revenues in excess of $3.197 billion. (Note that this number will likely be updated annually and will be noted in future annual announcements of availability of funds and ATP Proposal Preparation Kits.)

(b) Joint ventures (as defined in 15 CFR 295.2(i)) can receive funds for R&D activities for up to 5 years with no funding limitation other than the announced availability of funds. Joint ventures must cost-share (matching funds) more than 50 percent of the yearly total project costs (direct plus indirect costs). The term matching funds (cost-sharing) is defined in 15 CFR 295.2(l).

(c) Funds derived from Federal sources may not be used to meet the cost-share requirement. Additionally, subcontractors may not contribute towards the cost-share requirement.

Application Forms and Proposal Preparation Kit

The April 2002 version of the ATP Proposal Preparation Kit must be used to prepare and submit all proposals during fiscal year 2002. The Kit is available upon request from the ATP at the address and phone numbers noted in this notice. The Kit is also available on the Internet on the ATP Web site http://www.atp.nist.gov. Note that the ATP is mailing the Kit to all those individuals whose names are currently on the ATP mailing list. Those individuals need not contact the ATP to request a copy. The Kit contains proposal cover sheets, other required forms, and all the necessary guidelines for developing an ATP proposal. All proposals must be prepared in accordance with the guidelines in the Kit.

Submission of Electronic Proposals

ATP is now accepting proposals submitted electronically via ATP's Electronic Submission System. To be accepted, the proposal must have a valid ACES digital signature, and the attachment (proposal narrative) must be readable in one of the formats described on the Electronic Submission System website (webguy.nist.gov). Details about how to submit electronically, including how to get an ACES Digital Certificate, operating system, hardware and software requirements, downloads, and instructions are available at webguy.nist.gov. Font, line spacing, margin, page limit, page numbering, and page size requirements still apply.

The due dates for submission of electronic proposals are the same as those specified under the DATES section of this notice. Please note that an electronically submitted proposal will not be considered to be received unless it has a valid ACES digital signature and the attachment (proposal narrative) is readable in one of the formats described on the Electronic Submission System Web site (webguy.nist.gov).

Submission of Revised Proposals

A proposer may submit a proposal that is a revised version of a proposal submitted to a previous ATP competition. NIST will examine such proposals to determine whether substantial revisions have been made. Where the revisions are determined not to be substantial, NIST reserves the right to score and rank, or where appropriate, to reject, such proposals based on reviews of the previously submitted proposal.

Other Requirements

(a) If a proposal is selected as a semi-finalist, ATP reserves the right to seek clarification and necessary information through a list of questions to the proposer.

(b) There are certain types of projects that ATP will not fund because they are inconsistent with the ATP mission. These include:

(1) Straightforward improvements of existing products or product development;

(2) Projects that are predominately basic research;

(3) Pre-commercial scale demonstration projects where the emphasis is on demonstration that some technology works on a large scale or is economically sound rather than on R&D;

(4) Projects involving military weapons R&D or R&D that is of interest only to some mission agency rather than to the commercial marketplace;

(5) Projects that ATP believes would likely be completed with or without ATP funds in the same time frame or nearly the same time frame;

(6) Predominantly straightforward, routine data gathering (e.g., creation of voluntary consensus standards, data gathering/handbook preparation, testing of materials, or unbounded research aimed at basic discovery science), or application of standard engineering practices;

(7) Projects that are simply a follow-on or continuation of tasks previously funded in ATP projects from essentially the same proposing team.

(c) Certain costs that may be allowed in Federal financial assistance programs are not eligible for funding under ATP awards. The ATP Proposal Preparation Kit lists these costs.

(d) For joint ventures, no costs shall be incurred under an ATP project by the joint venture members until such time as a joint venture agreement has been executed by all of the joint venture members and approved by NIST. NIST will withhold approval until it determines that a sufficient number of members have signed the joint venture agreement. Costs will only be allowed after the execution of the joint venture agreement and approval by NIST.

(e) Any proposal that includes research involving human subjects, human tissue and/or cells, data or recordings involving human subjects must meet the requirements of the Common Rule for the Protection of Human Subjects, codified for the Department of Commerce at 15 CFR part 27. In addition, any proposal that includes research on these topics must be in compliance with any statutory requirements imposed upon NIH and other Federal agencies regarding these topics, all regulatory policies and guidance adopted by NIH, FDA, and other Federal agencies on these topics, and all Presidential statements of policy on these topics, which are provided in the handbook entitled “Advanced Technology Program Guidelines and Documentation Requirements for Research Involving Human and Animal Subjects.” This handbook may be obtained through any of the options described in the FOR FURTHER INFORMATION CONTACT section of this notice.

The NIST Advanced Technology Program (ATP) adheres to all Presidential policies, statutes, guidelines and regulations regarding the use of human embryonic stem cells. At this time, ATP will not consider proposals that involve the use, derivation, or characterization of human embryonic stem cells.

On December 3, 2000, the U.S. Department of Health and Human Services (DHHS) introduced the Federalwide Assurance of Protection for Human Subjects (FWA). The FWA covers all of an institution's Federally-supported human subjects research, and eliminates the need for other types of Assurance documents. For information about FWAs, please see the OHRP Web site at http://ohrp.osophs.dhhs.gov/irbasur.htm.

In accordance with the DHHS change, NIST will accept the submission of human subjects protocols that have been approved by Institutional Review Boards (IRBs) possessing a current, valid FWA from DHHS. NIST will also continue to accept the submission of human subjects protocols that have been approved by IRBs possessing a current, valid Multiple Project Assurance (MPA) from DHHS. NIST will not accept the submission of human subjects protocols that have been approved by IRBs possessing a Single Project Assurance (SPA), nor will NIST issue an SPA for IRB review of a human subjects protocol.

(f) Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58.

In addition, all requirements as set forth in the handbook entitled “Advanced Technology Program Guidelines and Documentation Requirements for Research Involving Human and Animal Subjects,” shall apply. This handbook may be obtained through any of the options described in the FOR FURTHER INFORMATION CONTACT section of this notice.

(g) The intellectual property provisions found at 15 U.S.C. 278n(d)(11) and 15 CFR 295.8 shall apply to all ATP awards.

(h) Proposers, including each joint venture participant, shall provide sufficient funds in the project multi-year budget for project audits as specified below. Except for vendors that provide goods and services, subcontractors that receive more than $300,000 each, including universities, are also subject to the audit requirement. It is the responsibility of the recipient to ensure that audits are performed in a timely fashion. Most routine audits can be performed by the recipient's external CPA. However, the Department of Commerce Office of Inspector General (DoC/OIG) and General Accounting Office (GAO) reserve the right to carry out audits as deemed necessary and appropriate. ATP recipients must be willing to submit to audits (e.g., audits of cost-accounting systems, direct-cost expenditures, indirect cost rates, or other periodic reviews) by the Inspectors General or GAO. Periodic project audits shall be performed as follows:

(1) For awards less than 24 months, an audit is required at the end of the project.

(2) For 2-, 3-, or 4-year awards, an audit is required after the first year and at the end of the project.

(3) For 5-year awards, an audit is required after the first year, third year, and at the end of the project.

Proposers should budget for audits as follows:

(1) Proposers should allocate funds in their proposal budgets under the “Other” direct cost category for the project audit. For joint ventures, this must be included in each participant's budget, as each participant is responsible for the performance of their own project audit.

(2) If an organization's indirect cost pool includes audit costs, this is acceptable. In these cases, an explanation must be provided in the budget narrative and no audit costs reflected under “Other” costs.

(3) If a cognizant Federal agency auditor is resident within the company, the cognizant Federal agency auditor may perform the audit. In this case, an explanation must be provided in the budget narrative and no audit costs reflected under “Other” costs or “Indirect Costs.”

Audits of all recipients shall be conducted in accordance with Government Auditing Standards (GAS), issued by the Comptroller General of the United States (the Yellow Book). If an ATP recipient is required to have an audit performed in accordance with OMB Circular A-133, Audits of States, Local Government, and Non-Profit Organizations, the annual Circular A-133 audit is deemed to meet the ATP audit requirement.

If an ATP recipient does not have an annual Circular A-133 audit performed, the recipient should follow the following project audit requirements:

(1) Audits for single company recipients shall be conducted using the NIST Program-Specific Audit Guidelines for Advanced Technology Program (ATP) Cooperative Agreements with Single Companies.

(2) Audits for joint venture recipients shall be conducted using the NIST Program-Specific Audit Guidelines for Advanced Technology Program (ATP) Cooperative Agreements with Joint Ventures.

(i) All ATP recipients must agree to adhere to the U.S. Export Administration laws and regulations and shall not export or re-export, directly or indirectly, any technical data created with Government funding under an award to any country for which the United States Government or any agency thereof, at the time of such export or re-export requires an export license or other Governmental approval without first obtaining such licenses or approval and the written clearance of the NIST Grants Officer. The Bureau of Export Administration (BXA) shall conduct an annual review for any relevant information about a proposer and/or Recipient. NIST reserves the right to not issue any award or suspend or terminate an existing award in the event that significant adverse information about a proposer or Recipient is disclosed by BXA to the NIST Grants Officer.

(j) Intergovernmental Review. The ATP does not involve the mandatory payment of any matching funds from state or local government and does not affect directly any state or local government. Accordingly, the Department of Commerce has determined that Executive Order 12372, “Intergovernmental Review of Federal Programs” is not applicable to this program.

(k) Paperwork Reduction Act. This notice contains collection of information requirements subject to the Paperwork Reduction Act (PRA). The use of Standards Forms 424B and SF-LLL has been approved by OMB under the respective control numbers 0348-0040 and 0348-0046. The use of Form NIST-1262 (pp.1-4) and Form NIST-1263 (pp.1-5) has been approved by OMB under the control number 0693-0009. The use of Commerce Department Form CD-346 has been approved by OMB under the control number 0605-0001. Notwithstanding any other provision of the law, no person is required to respond to, nor shall any person be subject to a penalty for failure to comply with a collection of information, subject to the requirements of the PRA, unless that collection of information displays a currently valid OMB Control Number.

(l) Executive Order Statement. This funding notice was determined to be “not significant” for purposes of Executive Order 12866.

(m) ATP is not accepting pre-proposals during fiscal year 2002.

(n) The Department of Commerce Pre-Award Notification Requirements for Grants and Cooperative Agreements contained in the Federal Register notice of October 1, 2001 (66 FR 49917), are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 138 (D.D.C. 2001). This decision is currently on appeal. When the case has been finally resolved, the Department will provide further information on implementation of Executive Order 13202.

(o) The Program will retain one copy of each unsuccessful application for recordkeeping purposes. The remaining copies will be destroyed.

(p) NIST requires each recipient, whether receiving Federal funds or only providing matching funds, to have a functioning financial management system that meets the provisions of 15 CFR 14.21, to ensure proper accountability of funds. In cases where a recipient has had no prior Federal support or NIST has reason to question whether the recipient's financial management standards meet Federal requirements, the recipient will be required to submit an accounting system certification issued by an Independent Certified Public Accountant to the NIST Grants Officer within 90 days from the date of award.

(q) Classification. Because notice and comment are not required under 5 U.S.C. 553(a)(2), or any other law, for notices relating to public property, loans, grants, benefits, or contracts, a Regulatory Flexibility Analysis, 5 U.S.C. 601 et seq., is not required and has not been prepared for this notice.

Public Meeting

A public meeting (Proposers' Conference) for potential proposers and other interested parties will be held:

• 9:30 a.m.-12:30 p.m. Eastern Standard Time, Thursday, May 2, 2002. Gaithersburg Hilton, 620 Perry Parkway, Gaithersburg, Maryland 20877. Telephone: (301) 977-8900. Facsimile: (301) 977-3450.

The meeting will provide general information regarding the ATP, tips on preparing good proposals, and an opportunity for audience questions. Attendance at this public meeting is not required. No registration fee will be charged. To register for the public meeting or for further information, contact ATP at 1-800-ATP-FUND (1-800-287-3863), or register via the NIST Web site: www.atp.nist.gov/atp/reg_form.htm.

Dated: April 17, 2002.
Arden L. Bement,
Director.

[FR Doc. 02-9374 Filed 4-17-02; 8:45 am]

BILLING CODE 3510-13-P